INTERNATIONAL TRADE COMMISSION

[Investigation No. 337-TA-1361]

Certain Wi-Fi Routers, Wi-Fi Devices, Mesh Wi-Fi Network Devices, and Hardware and Software Components Thereof; Notice of a Commission Determination To Grant a Joint Motion To Terminate the Investigation Based on a Settlement Agreement; Termination of the Investigation

AGENCY: U.S. International Trade Commission.

ACTION: Notice.

SUMMARY: Notice is hereby given that the U.S. International Trade Commission (“Commission”) has determined to grant a joint motion to terminate the investigation based on a settlement agreement. The investigation is terminated in its entirety.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 8, 2023, based on a complaint filed on behalf of Netgear Inc. of San Jose, California (“Netgear”). 88 FR 29693-94 (May 8, 2023). The complaint alleged violations of section 337 of the Tariff Act of 1930, as amended, 19 U.S.C. 1337, in the importation into the United States, the sale for importation, or the sale within the United States after importation of certain Wi-Fi routers, Wi-Fi devices, mesh Wi-Fi network devices, and hardware and software components thereof by reason of infringement of certain claims of U.S. Patent Nos. 7,936,714 (“the '714 patent”); 10,681,698 (“the '698 patent”); 10,278,179 (“the '179 patent”); 9,468,205; 10,327,242; and 10,356,681. The complaint further alleged that a domestic industry exists. The Commission's notice of investigation named as respondents: TP-Link Technologies Co., Ltd. of Shenzhen, China; TP-Link Corporation Limited, f/k/a TP-Link International Limited of Kowloon, Hong Kong; TP-Link USA Corporation of Irvine, California; and TP-Link Research Institute USA Corp. d/b/a TP-Link Research America Corp. of San Jose, California (collectively, “TP-Link”). The Office of Unfair Import Investigations is not participating in this investigation.

On May 30, 2024, the presiding administrative law judge issued a final initial determination finding a violation of section 337 with respect to claim 13 of the '714 patent and claims 12, 15, 17, and 19 of the '698 patent, but no violation with respect to claim 11 of the '179 patent.

On September 10, 2024, Netgear and TP-Link filed a joint motion to terminate the investigation based on a settlement agreement. On September 11, 2024, Netgear and TP-Link filed a public version of their joint motion to terminate, attaching a redacted version of their settlement agreement.

The Commission has determined to grant the joint motion to terminate because it complies with the requirements of Commission Rule 210.21(b) (19 CFR 210.21(b)). Specifically, the Commission finds that the joint motion includes confidential and public versions of the parties' settlement agreement and a statement that “[o]ther than a stipulation regarding joint discovery cross-use in the 1405 investigation and stipulations relating to procedural and discovery matters, importation and inventory, hearing procedures, and exhibits in this investigation,” there are no other agreements, written or oral, express or implied between the parties concerning the subject matter of the investigation. The Commission further finds that there are no extraordinary circumstances that would warrant denial of the requested termination, and termination would not be contrary to the public interest pursuant to Commission Rule 210.50(b)(2) (19 CFR 210.50(b)(2)). The investigation is hereby terminated in its entirety.

The Commission vote for this determination took place on October 3, 2024.

The authority for the Commission's determination is contained in section 337 of the Tariff Act of 1930, as amended (19 U.S.C. 1337), and in Part 210 of the Commission's Rules of Practice and Procedure (19 CFR part 210).

By order of the Commission.
Issued: October 3, 2024.
Lisa Barton,
Secretary to the Commission.

[FR Doc. 2024-23326 Filed 10-8-24; 8:45 am]

BILLING CODE 7020-02-P